DEPARTMENT OF TRANSPORTATION

Federal Aviation Administration

Notice of Intent To Request Renewal From the Office of Management and Budget (OMB) of Three Current Public Collections of Information

AGENCY: Federal Aviation Administration (FAA), DOT.

ACTION: Notice.

SUMMARY: In compliance with the Paperwork Reduction Act (44 U.S.C. 3501 et seq.), the FAA invites public comment on three currently approved public information collections which will be submitted to OMB for renewal.

DATES: Comments must be received on or before May 9, 2005.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection, in preparation for submission to renew the clearances of the following information collections.

1. 2120-0601: Financial Responsibility for Licensed Launch Activities. Information will be used to determine if licensees have complied with financial responsibility requirements (including maximum probably loss determination) as set forth in regulations and in license orders issued by the Office of the Associate Administrator for Commercial Space Transportation. Respondents are all licensees authorized to conduct licensed launch activities. The current estimated annual reporting burden is 1,305 hours.

2. 2120-0644: License Requirements for Operation of a Launch Site. The information collected includes data required for performing launch site location analysis. The launch site license is valid for a period of 5 years. Respondents are licensees authorized to operate sites. The current estimated annual reporting burden is 1,592 hours.

3. 2120-0646: Protection of Voluntarily Submitted Information. The rule regarding the protection of voluntarily submitted information acts to ensure that certain non-required information offered by air carriers will not be disclosed. The respondents apply to be covered by this program by submitting an application letter notifying the Administrator that they wish to participate. The current estimated annual reporting burden is 5 hours.

Issued in Washington, DC, on March 2, 2005.
Judith D. Street,
FAA Information Collection Clearance Officer, APF-100.

[FR Doc. 05-4528 Filed 3-8-05; 8:45 am]

BILLING CODE 4910-13-M